DEPARTMENT OF STATE

[Public Notice: 9409]

60-Day Notice of Proposed Information Collection: Application for Employment as a Locally Employed Staff or Family Member

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to March 21, 2016.

ADDRESSES: You may submit comments by any of the following methods:

• Web: Persons with access to the Internet may comment on this notice by going to www.Regulations.gov. You can search for the document by entering “Docket Number: DOS-2015-0075” in the Search field. Then click the “Comment Now” button and complete the comment form.

• Email: CookSH@state.gov.

• Regular Mail: Send written comments to: U.S. Department of State—SA-44, HR/OE, Suite 1300, Attention: Sabrina Cook, 1800 G Street NW., Washington, DC 20006.

You must include the DS form number (if applicable), information collection title, and the OMB control number in any correspondence.

FOR FURTHER INFORMATION CONTACT: Direct requests for additional information regarding the collection listed in this notice, including requests for copies of the proposed collection instrument and supporting documents, to Sabrina Cook, Bureau of Human Resources, Office of Overseas Employment, U.S. Department of State, Washington, DC 20006, who may be reached on 202-663-2909 or at CookSH@state.gov.

SUPPLEMENTARY INFORMATION:

• Title of Information Collection: Application for Employment as a Locally Employed Staff or Family Member.

• OMB Control Number: 1405-0189.

• Type of Request: Extension of a Currently Approved Collection.

• Originating Office: Bureau of Human Resources, Office of Overseas Employment (HR/OE).

• Form Number: DS-0174.

• Respondents: Candidates seeking employment at U.S. Missions abroad, including family members of Foreign Service, Civil Service, and uniformed service members officially assigned to the Mission and under Chief of Mission authority.

• Estimated Number of Respondents: 40,000.

• Estimated Number of Responses: 40,000.

• Average Time per Response: 1 hour.

• Total Estimated Burden Time: 40,000 hours.

• Frequency: On Occasion.

• Obligation To Respond: Required to Obtain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of proposed collection:

The DS-0174, Application for Employment as a Locally Employed Staff or Family Member, is needed to meet information collection requirements for recruitments conducted at approximately 170 U.S. embassies and consulates throughout the world. Current employment application forms do not meet the unique requirements of Mission recruitment (e.g., language skills and hiring preferences) under the FS Act of 1980 and 22 U.S.C. 2669(c). The DS-0174 is needed to improve data gathering and to clarify interpretation of candidate responses.

Methodology:

Candidates for employment use the DS-0174 to apply for Mission-advertised positions throughout the world. Mission recruitments generate approximately 40,000 applications per year. Data that HR and hiring officials extract from the DS-0174 determines eligibility for employment, qualifications for the position, and selections according to Federal policies.

Dated: January 11, 2016.
William E. Schaal,
Director, HR/EX, Department of State.

[FR Doc. 2016-01021 Filed 1-19-16; 8:45 am]

BILLING CODE 4710-15-P